TENNESSEE VALLEY AUTHORITY

Sunshine Act Meetings

TIME AND DATE: 10 a.m. on August 18, 2021.

PLACE: Please use the following link for the live stream of meeting: https://tva.com/board/watch.

STATUS: Open, via live streaming only.

MATTERS TO BE CONSIDERED:

Meeting No. 21-03

The TVA Board of Directors will hold a public meeting on August 18, 2021. Due to the ongoing risks associated with the COVID-19 outbreak, the meeting will be streamed to the public. The meeting will be called to order at 10 a.m. ET to consider the agenda items listed below. TVA Board Chair John Ryder and TVA management will answer questions from the news media following the Board meeting.

Public health concerns also require a change to the Board's public listening session. Although in-person comments from the public are not feasible, the Board is encouraging those wishing to express their opinions to submit written comments that will be provided to the Board members before the August 18 meeting. Written comments can be submitted through the same online system used to register to speak at previous listening sessions.

Agenda

1. Approval of minutes of the May 6, 2021 Board Meeting

2. Report of the Finance, Rates, and Portfolio Committee

A. FY 2022 Pandemic recovery credit

B. FY 2022 Financial plan and budget

C. FY 2022 Bond issuance and financing authority

3. Report of the People and Performance Committee

A. Corporate goals for FY 2022

4. Report of the Audit, Risk, and Regulation Committee

A. FY 2022 External auditor selection

5. Report of the Nuclear Oversight Committee

A. Financial assurance for nuclear decomissioning activities

6. Report of the External Relations Committee

7. Information Items

A. Selection of Board Chair

B. TVARS Board proposal—pension changes

8. Governance Items

A. Committee structure and assignments

9. Report from President and CEO

CONTACT PERSON FOR MORE INFORMATION: For more information: Please call Jim Hopson, TVA Media Relations at (865) 632-6000, Knoxville, Tennessee. Anyone who wishes to comment on any of the agenda in writing may send their comments to: TVA Board of Directors, Board Agenda Comments, 400 West Summit Hill Drive, Knoxville, Tennessee 37902.

Dated: August 11, 2021.
David Fountain,
Executive Vice President, General Counsel and Corporate Secretary.

[FR Doc. 2021-17597 Filed 8-12-21; 4:15 pm]

BILLING CODE 8120-08-P